FEDERAL COMMUNICATIONS COMMISSION

47 CFR Parts 1 and 63

[IB Docket No. 12-299; FCC 14-48]

Reform of Rules and Policies on Foreign Carrier Entry Into the U.S. Telecommunications Market

AGENCY: Federal Communications Commission.

ACTION: Final rule; announcement of effective date.

SUMMARY: In this document, the Federal Communications Commission (Commission) announces that the Office of Management and Budget (OMB) has approved, for a period of three years, the information collection requirements associated with the Commission's Report and Order, IB Docket No. 12-299, FCC 14-48. This notice is consistent with the Report and Order, which stated that the Commission would publish a document in the Federal Register announcing OMB approval and the effective date of the requirements.

DATES: The amendments to 47 CFR 1.767(a)(8), 1.768(g)(2), 63.11(g)(2) and 63.18(k), published at 79 FR 31873, June 3, 2014 are effective on March 3, 2015.

FOR FURTHER INFORMATION CONTACT: For additional information contact Cathy Williams, Cathy.Williams@fcc.gov, (202) 418-2918.

SUPPLEMENTARY INFORMATION: This document announces that, on February 10, 2015 and February 20, 2015, OMB approved the information collection requirements contained in the Commission's Report and Order, FCC 14-48, published at 79 FR 31873, June 3, 2014. The OMB Control Numbers are 3060-0686 and 3060-0944. The Commission publishes this notice as an announcement of the effective date of the requirements. If you have any comments on the burden estimates listed below, or how the Commission can improve the collections and reduce any burdens caused thereby, please contact Cathy Williams, Federal Communications Commission, Room 1-C823, 445 12th Street SW., Washington, DC 20554. Please include the OMB Control Number, 3060-0686, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on February 10, 2015 and February 20, 2015, for the new information collection requirements contained in the Commission's rules at 47 CFR 1.767(a)(8), 1.768(g)(2), 63.11(g)(2) and 63.18(k).

Under 5 CFR part 1320, an agency may not conduct or sponsor a collection of information unless it displays a current, valid OMB Control Number.

No person shall be subject to any penalty for failing to comply with a collection of information subject to the Paperwork Reduction Act that does not display a current, valid OMB Control Number. The OMB Control Numbers are 3060-0686 and 3060-0944.

The foregoing notice is required by the Paperwork Reduction Act of 1995, Public Law 104-13, October 1, 1995, and 44 U.S.C. 3507.

The total annual reporting burdens and costs for the respondents are as follows:

OMB Control Number: 3060-0686.

OMB Approval Date: February 20, 2015.

OMB Expiration Date: February 28, 2018.

Title: International Section 214 Authorization Process and Tariff Requirements—47 CFR Sections 63.10, 63.11, 63.13, 63.18, 63.19, 63.21, 63.24, 63.25 and 1.1311.

Form Number: International Section 214 Application—New Authorization; International Section 214 Authorizations—Transfer of Control/Assignment; International Section 214—Special Temporary Authority and International Section 214—Foreign Carrier Affiliation Notification.

Respondents: Business and other for-profit.

Number of Respondents and Responses: 495 respondents; 748 responses.

Estimated Time per Response: 0.50 hour to 15 hours.

Frequency of Response: On occasion reporting requirement, Quarterly reporting requirement, Recordkeeping requirement and third party disclosure requirement.

Obligation to Respond: Required to obtain or retain benefits. The statutory authority for this collection is contained in sections 1, 4(i), 4(j), 11, 201-205, 208, 211, 214, 219, 220, 303(r), 309, 310 and 403 of the Communications Act of 1934, as amended, 47 U.S.C. 151, 154(i), 154(j), 161, 201-205, 208, 211, 214, 219, 220, 303(r), 309, 310 and 403.

Total Annual Burden: 3,286 hours.

Total Annual Cost: $755,400.

Nature and Extent of Confidentiality: In general, there is no need for confidentiality with this collection of information. In those cases where a respondent believes information requires confidentiality, the respondent can request confidential treatment under § 0.459 of the Commission's rules, 47 CFR 0.459.

Privacy Act Impact Assessment: No impact(s).

Needs and Uses: The Federal Communications Commission (Commission) received approval for a revision of OMB Control No. 3060-0686 from the Office of Management and Budget (OMB). The purpose of this revision was to obtain OMB approval of rules adopted in the Commission's Report and Order in IB Docket No. 12-299, FCC 14-48, adopted and released on April 22, 2014 (Report and Order). In the Report and Order, the Commission eliminated the effective competitive opportunities (ECO) test from §§ 63.11(g)(2) and 63.18(k) of the Commission's rules, 47 CFR 63.11(g)(2), 63.18(k), which apply to applications filed under section 63.18, 47 CFR 63.18, for authority to provide U.S.-international telecommunications service pursuant to section 214 of the Communications Act of 1934, as amended (Communications Act), 47 U.S.C. 214, and to foreign carrier affiliation notifications filed under § 63.11 of the Commission's rules, 47 CFR 63.11. The Commission is also making adjustments to the hour and cost burdens associated with other rules and requirements covered by this information collection. The information will be used by the Commission staff in carrying out its duties under the Communications Act.

The information will be used by the staff in carrying out its duties under the Communications Act. The information collections are necessary largely to determine the qualifications of applicants to provide common carrier international telecommunications service, including applicants that are, or are affiliated with, foreign carriers, and to determine whether and under what conditions the authorizations are in the public interest, convenience, and necessity. The information collections are also necessary to maintain effective oversight of U.S. international carriers generally.

If the collections are not conducted or are conducted less frequently, applicants will not obtain the authorizations necessary to provide telecommunications services, and the Commission will be unable to carry out its mandate under the Communications Act. In addition, without the information collections, the United States would jeopardize its ability to fulfill the U.S. obligations as negotiated under the WTO Basic Telecom Agreement because these collections are imperative to detecting and deterring anticompetitive conduct. They are also necessary to preserve the Executive Branch agencies' and the Commission's ability to review foreign investments for national security, law enforcement, foreign policy, and trade concerns.

OMB Control Number: 3060-0944.

OMB Approval Date: February 10, 2015.

OMB Expiration Date: February 28, 2018.

Title: Cable Landing License Act, 47 CFR 1.767; 1.768; Executive Order 10530.

Form Number: Submarine Cable Landing License Application.

Respondents: Business and other for-profit.

Number of Respondents and Responses: 38 respondents; 94 responses.

Estimated Time per Response: 0.50 hour to 17 hours.

Frequency of Response: On occasion reporting requirement, Quarterly reporting requirement, Recordkeeping requirement and third party disclosure requirement.

Obligation to Respond: Required to obtain or retain benefits. The statutory authority for this collection is contained in the Submarine Cable Landing License Act of 1921, 47 U.S.C. 34-39, Executive Order 1050, section 5(a), and the Communications Act of 1934, as amended, 47 U.S.C. 151, 152, 154(i)-(j), 155, 303(r), 309, and 403.

Total Annual Burden: 421 hours.

Total Annual Cost: $88,505.

Nature and Extent of Confidentiality: In general, there is no need for confidentiality with this collection of information. In those cases where a respondent believes information requires confidentiality, the respondent can request confidential treatment under § 0.459 of the Commission's rules, 47 CFR 0.459.

Privacy Act Impact Assessment: No impact(s).

Needs and Uses: The Federal Communications Commission (Commission) received approval for a revision of OMB Control No. 3060-0944 from the Office of Management and Budget (OMB). The purpose of this revision was to obtain OMB approval of rules adopted in the Commission's Report and Order in IB Docket No. 12-299, FCC 14-48, adopted and released on August 22, 2014 (Report and Order). In the Report and Order, the Commission eliminated the effective competitive opportunities (ECO) test from §§ 1.767(a)(8) and 1.768(g)(2) of the Commission's rules, 47 CFR 1.767(a)(8), 1.768(g)(2), which apply to cable landing license applications filed under the Submarine Cable Landing License Act of 1921, 47 U.S.C. 34-39, and § 1.767 of the Commission's rules, 47 CFR 1.767, and to foreign carrier affiliation notifications filed under § 1.768 of the Commission's rules, 47 CFR 1.768. The Commission is also making adjustments to the hour and cost burdens associated with other rules and requirements covered by this information collection.

The information will be used by the Commission staff in carrying out its duties under the Submarine Cable Landing License Act of 1921, 47 U.S.C. 34-39, Executive Order 10530, section 5(a), and the Communications Act of 1934, as amended. The information collections are necessary largely to determine whether and under what conditions the Commission should grant a license for proposed submarine cables landing in the United States, including applicants that are, or are affiliated with, foreign carriers in the destination market of the proposed submarine cable. Pursuant to Executive Order No. 10530, the Commission has been delegated the President's authority under the Cable Landing License Act to grant cable landing licenses, provided that the Commission must obtain the approval of the State Department and seek advice from other government agencies as appropriate. If the collection is not conducted or is conducted less frequently, applicants will not obtain the authorizations necessary to provide telecommunications services and facilities, and the Commission will be unable to carry out its mandate under the Cable Landing License Act and Executive Order 10530. In addition, without the collection, the United States would jeopardize its ability to fulfill the U.S. obligations as negotiated under the World Trade Organization (WTO) Basic Telecom Agreement because certain of these information collection requirements are imperative to detecting and deterring anticompetitive conduct. They are also necessary to preserve the Executive Branch agencies' and the Commission's ability to review foreign investments for national security, law enforcement, foreign policy, and trade concerns.

Federal Communications Commission.
Marlene H. Dortch,
Secretary.

[FR Doc. 2015-04336 Filed 3-2-15; 8:45 am]

BILLING CODE 6712-01-P